DEPARTMENT OF ENERGY

Federal Energy Regulatory Commission

Notice of Commission Staff Attendance at North American Electric Reliability Corporation Meetings From July-December 2010

June 2, 2010.

The Federal Energy Regulatory Commission hereby gives notice that members of the Commission and Commission staff may attend the following NERC related meetings:

NERC Planning Committee Meetings and its sub-committee meetings on, but not limited to:

• Tuesday—Wednesday, September 14-15, 2010 Denver, CO (TBD).

• Tuesday—Wednesday, December 7-8, 2010 Tampa, FL (TBD).

NERC Operating Committee Meetings and its sub-committee meetings on, but not limited to:

• Tuesday—Wednesday, September 14-15, 2010 Denver, CO (TBD).

• Tuesday—Wednesday, December 7-8, 2010 Tampa, FL (TBD).

NERC Reliability Assessment Subcommittee on, but not limited to:

• Tuesday—Wednesday, August 10-11, 2010 Salt Lake City, UT (TBD).

• Tuesday—Wednesday, October 12-13, 2010 New York, NY (2).

• Tuesday, December 7, 2010 Teleconference (TBD).

NERC Reliability Metrics Working Group on, but not limited to:

• Wednesday, July 14, 2010 Teleconference (TBD).

• Wednesday, August 18, 2010 Teleconference (TBD).

• Wednesday—Thursday, September 22-23, 2010 (TBD).

• Wednesday, October 20, 2010 Teleconference (TBD).

• Wednesday, November 17, 2010 Teleconference (TBD).

NERC Resources Subcommittee Meetings on, but not limited to:

• Wednesday—Thursday, July 28-29, 2010 Pensacola, FL (3).

• Wednesday—Thursday, October 27-28, 2010 Valley Forge, PA (TBD).

NERC Standards Committee Meetings and its sub-committee meetings on, but not limited to:

• Wednesday—Thursday, July 14-15, 2010 Toronto, Ontario (TBD).

• Thursday, August 12, 2010, Teleconference (1).

• Thursday, September 9, 2010 Teleconference (1).

• Wednesday—Thursday, October 13-14, 2010 Houston, TX (TBD).

• Thursday, November 11, 2010, Teleconference (1).

• Thursday, December 9, 2010, Teleconference (1).

NERC Transmission Issues Subcommittee on, but not limited to:

• Wednesday—Thursday, July 21-22, 2010 (TBD).

• Wednesday—Thursday, October 13-14, 2010 (TBD).

NERC Board of Trustees Meetings:

• Wednesday—Thursday, August 4-5, 2010 Toronto, Ontario (4).

• Wednesday—Thursday, November 3-4, 2010 Atlanta, GA (TBD).

NERC Finance and Audit Committee Meetings:

• TBD.

Critical Infrastructure Protection Committee Quarterly Meetings and its sub-committee meetings on, but not limited to:

• Wednesday—Thursday, September 15-16, 2010 (TBD).

• Wednesday—Thursday, December 8-9, 2010 (TBD).

The meetings above will be held at the following locations:

1. North American Electric Reliability Corporation, 866.740.1260.

2. NPCC Offices, 1515 Broadway, New York, NY 10036, 917.934.7960.

3. Gulf Power Co. Headquarters, Room 596, Pensacola, FL 32502, 205.257.6209.

4. Marriott Toronto Eaton Centre, 525 Bay Street, Toronto, Ontario MSG 2L2, 416.597.9200.

Further information may be found at http://www.nerc.com.

The above-referenced meetings are open to the public.

For more information, contact Mary Agnes Nimis, Office of Electric Reliability, Federal Energy Regulatory Commission at (202) 502-8235 or maryagnes.nimis@ferc.gov or Nicholas Snyder, Office of Electric Reliability, Federal Energy Regulatory Commission at (202) 502-6408 or nicholas.snyder@ferc.gov.

Kimberly D. Bose,
Secretary.

[FR Doc. 2010-14033 Filed 6-10-10; 8:45 am]

BILLING CODE 6717-01-P